DEPARTMENT OF COMMERCE

Census Bureau

Proposed Information Collection; Comment Request; Generic Clearance for Census Bureau Field Tests and Evaluations

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before October 25, 2019.

ADDRESSES: Direct all written comments to Jennifer Childs, Assistant Center Chief, U.S. Census Bureau, 4600 Silver Hill Road, 5K022D, Washington, DC 20233 (or via the internet at PRAcomments@doc.gov). You may also submit comments, identified by Docket Number USBC-2018-0013, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Jennifer Childs, Census Bureau, Washington, DC 20233; (301) 763-4932 (or via the internet at jennifer.hunter.childs@census.gov).

SUPPLEMENTARY INFORMATION:

I. Abstract

The U.S. Census Bureau plans to request an extension of the current OMB approval to conduct a series of studies to research and evaluate how to improve data collection activities for data collection programs at the Census Bureau. These studies will explore how the Census Bureau can improve efficiency, data quality, and response rates and reduce respondent burden in future census and survey operations, evaluations, and experiments.

This information collection will operate as a generic clearance. The estimated number of respondents and annual reporting hours requested cover both the known and yet to be determined tests. A generic clearance is needed for these tests because, even though each test will follow a similar methodology, the exact number of tests and the explicit details of each test to be performed has yet to be determined. Once information collection plans are defined, they will be submitted on an individual basis in order to keep OMB informed as these tests progress.

The Census Bureau plans to test the use of new and improved data collection techniques for self-enumeration and interviewer data-collection tasks surrounding and following the ongoing census and survey operations. The research and evaluation may include: Developing alternative enumeration or follow-up questionnaires; usability issues; conducting interviews or debriefings; and non-English language training and interviews. To study enumeration, the Census Bureau may conduct the enumeration directly with a household member or knowledgeable respondent. The questions asked in these studies will be typical census or survey questions and questions related to that content, along with potential attitudinal and satisfaction debriefing questions.

II. Method of Collection

The information will be collected through observations, self-response, face-face interviews, and/or telephone interviews.

III. Data

OMB Control Number: 0607-0971.

Form Number: Not yet determined.

Type of Review: Regular submission.

Affected Public: Individuals or households.

Estimated Number of Respondents: 100,000 per year.

Estimated Time per Response: 25 minutes.

Estimated Total Annual Burden Hours: 41,667 hours annually.

Estimated Total Annual Cost: There is no cost to the respondent other than time to answer the information request.

Respondents Obligation: Mandatory or Voluntary, depending on cited authority.

Legal Authority: Data collection for this project is authorized under the authorizing legislation for the questionnaire being tested. This may be Title 13, United States Code, Sections 131, 141, 161, 181, 182, 193, and 301 for Census Bureau sponsored surveys, and Title 13 or 15 for surveys sponsored by other Federal agencies. We do not now know what other titles will be referenced, since we do not know what survey questionnaires will be pretested during the course of the clearance.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-18274 Filed 8-23-19; 8:45 am]

BILLING CODE 3510-07-P